DEPARTMENT OF AGRICULTURE

Animal and Plant Health Inspection Service

[Docket No. APHIS-2006-0076]

Availability of an Environmental Assessment for a Biological Control Agent for Old World Climbing Fern

AGENCY: Animal and Plant Health Inspection Service, USDA.

ACTION: Notice of availability and request for comments.

SUMMARY: We are advising the public that the Animal and Plant Health Inspection Service has prepared an environmental assessment relative to the control of Old World climbing fern, Lygodium microphyllum. The environmental assessment considers the effects of, and alternatives to, the release of a nonindigenous gall mite, Floracarus perrepae, for the biological control of Old World climbing fern in Florida. We are making the environmental assessment available to the public for review and comment.

DATES: We will consider all comments that we receive on or before June 22, 2006.

ADDRESSES: You may submit comments by either of the following methods: Federal eRulemaking Portal: Go to http://www.regulations.gov and, in the lower “Search Regulations and Federal Actions” box, select “Animal and Plant Health Inspection Service” from the agency drop-down menu, then click on “Submit.” In the Docket ID column, select APHIS-2006-0076 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2006-0076, Regulatory Analysis and Development, PPD, APHIS, Station 3A-03.8, 4700 River Road Unit 118, Riverdale, MD 20737-1238. Please state that your comment refers to Docket No. APHIS-2006-0076.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Joseph Vorgetts, Entomologist, Pest Permit Evaluation Branch, PPQ, APHIS, 4700 River Road Unit 133, Riverdale, MD 20737-1237; (301) 734-5405.

SUPPLEMENTARY INFORMATION:

Background

Old World climbing fern, Lygodium microphyllum, is a climbing fern that has a large native range that extends through much of the Old World tropics. It has become established in central and southern peninsular Florida, where it grows in a number of wetland and mesic (having a moderate supply of moisture) habitats including hammocks, cypress swamps, flatwoods, bayheads, and disturbed sites.

The climbing fern is a highly invasive, exotic weed that climbs over plants, including tall trees, to form massive walls of vegetation. It also forms thick mats on the ground that smother native plants. New infestations can arise great distances from existing populations because the weed produces millions of spores that are spread by wind and other physical carriers. A single spore is capable of starting a new infestation. In addition, dense strands of Old World climbing fern present a major fire hazard.

In Florida, the potential distribution of this weed includes all habitats from Lake Okeechobee south. It also has the potential to invade the Gulf Coast of Mexico and southern Texas.

The Plant Protection and Quarantine (PPQ) program of the Animal and Plant Health Inspection Service (APHIS) has received a permit application for the release of a nonindigenous gall mite, Floracarus perrepae (Knihinicki & Boczek) (Acariformes: Eriophyidae), for the biological control (biocontrol) of Old World climbing fern in Florida. The purpose of the proposed release is to reduce the severity of infestations of L. microphyllum in Florida.

The proposed biocontrol agent, F. perrepae, is a gall mite in the insect family Eriophyidae and is native to Australia and tropical Asia. The adult mites feed on young leaflets of the target weed, L. microphyllum, inducing the leaf margins to curl into galls. Female mites lay an average 60 eggs inside a gall. The eggs hatch in 5 days and immature mites feed on the specialized tissue within the gall, requiring 4 days to become adults. Galled leaflets are often infected by secondary ambient pathogens and have reduced life spans. Plants infested with the mite have slower rates of growth than uninfested plants.

The mite is also host specific. Host specificity tests conducted in Australia indicate that F. perrepae is specific to only two Lygodium species (the target weed L. microphyllum and the Australian fern Lygodium reticulatum).

Therefore, APHIS is considering issuing a permit for the release of F. perrepae into the continental United States in order to reduce the severity and extent of Old World climbing fern infestation. APHIS' review and analysis of the proposed action and its alternatives are documented in detail in an environmental assessment (EA) entitled, “Field Release of Floracarus perrepae Knihinicki & Boczek (Acariformes: Eriophyidae), a Mite for Biological Control of Old World Climbing Fern (Lygodium microphyllum), in the Continental United States” (March 2006). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the environmental assessment when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 17th day of May 2006.
Kevin Shea,
Acting Administrator, Animal and Plant Health Inspection Service.

[FR Doc. E6-7823 Filed 5-22-06; 8:45 am]

BILLING CODE 3410-34-P